DEPARTMENT OF LABOR

Employment and Training Administration

[TA-W-57,579]

Acme Gear Company, Englewood, NJ; Notice of Termination of Investigation

Pursuant to section 221 of the Trade Act of 1974, as amended, an investigation was initiated on July 19, 2005 in response to a worker petition filed by a New Jersey State official on behalf of workers at Acme Gear Company, Englewood, New Jersey.

The petitioner has requested that the petition be withdrawn. Consequently, the investigation has been terminated.

Signed at Washington, DC, this 10th day of August 2005.
Richard Church,
Certifying Officer, Division of Trade Adjustment Assistance.

[FR Doc. E5-4780 Filed 8-31-05; 8:45 am]

BILLING CODE 4510-30-P